DEPARTMENT OF ENERGY

Federal Energy Regulatory Commission

[Docket No. EF00-4021-000, et al.]

Southwestern Power Administration, et al.; Electric Rate and Corporate Regulation Filings

September 12, 2000.

Take notice that the following filings have been made with the Commission:

1. Southwestern Power Administration

[Docket No. EF00-4021-000]

Take notice that on September 7, 2000, The Deputy Secretary of Energy filed a Department of Energy Rate Order No. SWPA-42 for information. This order temporarily extends the existing Sam Rayburn Dam Project rate on an interim basis for a period of one year beginning October 1, 2000. The temporary extension is made pursuant to 10 CFR 903.22(h) and 903.23(a)(3).

Comment date: October 3, 2000, in accordance with Standard Paragraph E at the end of this notice.

2. GenPower Kelly, LLC

[Docket No. EG00-254-000]

Take notice that on September 8, 2000, GenPower Kelly, LLC (Applicant), a Delaware limited liability company, whose address is 1040 Great Plain Avenue, Needham, MA, filed with the Federal Energy Regulatory Commission an application for determination of exempt wholesale generator status pursuant to Part 365 of the Commission's regulations.

Applicant intends to construct an approximate 1,086 MW natural gas-fired combined cycle independent power production facility in Walker County, Alabama (the Facility). The Facility is currently under development and will be owned by Applicant. Electric energy produced by the Facility will be sold by Applicant to the wholesale power market in the southern United States.

Comment date: October 3, 2000, in accordance with Standard Paragraph E at the end of this notice. The Commission will limit its consideration of comments to those that concern the adequacy or accuracy of the application.

3. PSI Energy, Inc.

[Docket No. ER00-3608-000]

Take notice that on September 8, 2000, PSI Energy, Inc. (PSI), tendered for filing the Transmission and Local Facilities (T&LF) Agreement Calendar Year 1999 Reconciliation between PSI and Wabash Valley Power Association, Inc. (WVPA), and between PSI and Indiana Municipal Power Agency (IMPA). The T&LF Agreement has been designated as PSI's Rate Schedule FERC No. 253.

Copies of the filing were served on Wabash Valley Power Association, Inc., the Indiana Municipal Power Agency and the Indiana Utility Regulatory Commission.

Comment date: September 29, 2000, in accordance with Standard Paragraph E at the end of this notice.

4. New England Power Pool

[Docket No. ER00-3609-000]

Take notice that on September 8, 2000, the New England Power Pool (NEPOOL) Participants Committee submitted changes to Market Rules 2 and 3 which allow for the short notice Self-Scheduling of pumping at pumped storage hydroelectric generating units.

A November 8, 2000 effective date has been requested.

The NEPOOL Participants Committee states that copies of these materials were sent to the New England state governors and regulatory commissions and the Participants in the New England Power Pool.

Comment date: September 29, 2000, in accordance with Standard Paragraph E at the end of this notice.

5. Entergy Services, Inc.

[Docket No. ER00-3610-000]

Take notice that on September 8, 2000, Entergy Services, Inc. (Entergy), on behalf of Entergy Arkansas, Inc., Entergy Gulf States, Inc., Entergy Louisiana, Inc., Entergy Mississippi, Inc., and Entergy New Orleans, Inc. (collectively, the Entergy Operating Companies), submitted for filing an amended Exhibit A to the Network Integration Transmission Service Agreement (NITSA) between Entergy, as agent for the Entergy Operating Companies, and East Texas Electric Cooperative, Inc. (ETEC), Sam Rayburn G&T Electric Cooperative, Inc. (SRG&T), and Tex-La Electric Cooperative of Texas, Inc. (Tex-La). Entergy states that the amended Exhibit A reflects changes to certain points of delivery for Sam Houston Electric Cooperative, Inc.

Comment date: September 29, 2000, in accordance with Standard Paragraph E at the end of this notice.

6. Allegheny Energy Service Corporation, on behalf of Monongahela Power Company, The Potomac Edison Company, and West Penn Power Company (Allegheny Power).

[Docket No. ER00-3611-000]

Take notice that on September 8, 2000, Allegheny Energy Service Corporation on behalf of Monongahela Power Company, The Potomac Edison Company and West Penn Power Company (Allegheny Power), filed Service Agreement Nos. 325 and 326 to add Alliance Energy Services Partnership to Allegheny Power's Open Access Transmission Service Tariff which has been accepted for filing by the Federal Energy Regulatory Commission in Docket No. ER96-58-000.

The proposed effective date under the Service Agreements is September 7, 2000 or a date ordered by the Commission.

Copies of the filing have been provided to the Public Utilities Commission of Ohio, the Pennsylvania Public Utility Commission, the Maryland Public Service Commission, the Virginia State Corporation Commission, and the West Virginia Public Service Commission.

Comment date: September 29, 2000, in accordance with Standard Paragraph E at the end of this notice.

7. Commonwealth Edison Company

[Docket No. ER00-3612-000]

Take notice that on September 8, 2000, Commonwealth Edison Company (ComEd) tendered for filing pursuant to Section 35.15 of the Federal Energy Regulatory Commission's regulations, 18 CFR 35.15, Notices of Cancellation of Service Agreement Nos. 138 and 84 between ComEd and Columbia Energy Power Marketing Corp. (Columbia) under ComEd's Power Sales and Reassignment of Transmission Rights Tariff and FERC Electric Market-Based Rate Schedule, respectively.

ComEd requests an effective date of August 1, 2000 for the cancellations and accordingly requests waiver of the Commission's regulations.

A copy of this filing was served on Columbia.

Comment date: September 29, 2000, in accordance with Standard Paragraph E at the end of this notice.

8. Commonwealth Edison Company

[Docket No. ER00-3613-000]

Take notice that on September 8, 2000, Commonwealth Edison Company (ComEd) tendered for filing pursuant to Section 35.15 of the Federal Energy Regulatory Commission's regulations, 18 CFR 35.15, Notices of Cancellation of Service Agreement Nos. 100 and 31 between ComEd and AYP Energy, Inc. (AYP) under ComEd's Power Sales and Reassignment of Transmission Rights Tariff and FERC Electric Market-Based Rate Schedule, respectively.

ComEd requests an effective date of November 8, 2000 for the cancellations.

A copy of this filing was served on AYP.

Comment date: September 29, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-24089 Filed 9-19-00; 8:45 am]

BILLING CODE 6717-01-P